DEPARTMENT OF HOUSING AND URBAN DEVELOPMENT

[Docket No. FR-7070-N-48]

30-Day Notice of Proposed Information Collection: Restrictions on Assistance to Noncitizens and Authorization for Information/Privacy Act; OMB Control No.: 2577-0295

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 18, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on February 9, 2023 at 88 FR 8446.

A. Overview of Information Collection

Title of Information Collection: Restrictions on Assistance to Noncitizens and Authorization to Release Information/Privacy Act.

OMB Approval Number: 2577-0295.

Type of Request: Revision of a currently approved collection.

Form Number: HUD-9886-A, HUD-9886-A-ARA, HUD-9886-A-CAM, HUD-9886-A-CHI, HUD-9886-A-CRE, HUD-9886-A-FRE, HUD-9886-A-HMO, HUD-9886-A-KOR, HUD-9886-A-RUS, HUD-9886-A-SPA, HUD-9886-A-VIE.

Description of the need for the information and proposed use: To determine eligibility and to assist HUD in managing and monitoring HUD-assisted housing programs, applicants and tenants applying for or receiving assistance in the Housing Choice Voucher and Public Housing programs are required to sign the Authorization for the Release of Information/Privacy Act Notice—(Public and Indian Housing form HUD-9886). This is a request for revision of the current approval for HUD to require applicants and tenants to sign the form HUD-9886-A on or after January 1, 2024, in order to fully implement the Housing Opportunity Through Modernization Act of 2016 (HOTMA). Form HUD-9886 will continue to be used prior to the effective date of HOTMA.

Respondents: Individuals or households, State, or Local Government.

Reporting Burden

Tabulation of Annual Reporting Burden—Retriction on Assistance to Noncitizens
Information collection | Number of respondents | Frequency of response | Responses per annum | Burden hour per response | Annual burden hours | Hourly cost per response | Annual cost
New tenant admissions in Public & Indian Housing and Section 8 Programs ** | 4,055 | 213 | 863,715.00 | 0.16 | 138,194.40 | $30.00 | $4,145,832.00
Annual recertification of tenants' eligible immigration status in Public & Indian Housing and Section 8 Programs ** | 4,055 | 7 | 28,385.00 | 0.08 | 2,270.80 | 30.00 | 68,124.00
Totals | 4,055 | 0.20 | 892,100 |  | 140,465.20 |  | 4,213,956.00
Data is from HUD's Public & Indian Housing Information Center (PIC).
* Data from FY 2010, 2011, and 2012 averages.
** New tenants that are citizens or have permanent eligible immigration status must submit this form only once.

Tabulation of Annual Reporting Burden—Authorization of Release of Information/Privacy Act
Information collection | Number of respondents | Frequency of response | Responses per annum | Burden hour per response | Annual burden hours | Hourly cost per response | Annual cost
New tenant admissions of adult members in Public Housing and Housing Choice Voucher programs * | 320,820 | 1 | 320,820 | 0.16 | 51,331.20 | $30.00 | $1,539,936
One-time execution of updated Form 9886 by current Public Housing and Housing Voucher Program tenants ** | 4,203,135 | 1 | 4,203,135 | 0.08 | 336,250.80 | 30.00 | 10,087,524
Execution of Form 9886 by household members that turn 18 | 136,536 | 1 | 136,536 | .08 | 10,922.88 | 30.00 | 327,686.40
Totals | 4,660,491 |  | 4,660,491 |  | 398,504.88 |  | 11,955,122.40
Data is from HUD's Public & Indian Housing Information Center (PIC).
* Data from CY 2021
** Prior to January 1, 2024, participants signed and submitted consent forms at each regularly scheduled income reexamination. On or after January 1, 2024, a participant must sign and submit consent forms at their next interim or regularly scheduled income reexamination. After all applicants or participants over the age of 18 in a family have signed and submitted a consent form once on or after January 1, 2024, family members do not need to sign and submit subsequent consent forms at the next interim or regularly scheduled income examination except under the following circumstances: (i) When any person 18 years or older becomes a member of the family, that family member must sign and submit a consent form; (ii) When a member of the family turns 18 years of age, that family member must sign and submit a consent form; or (iii) As required by HUD or the PHA in administrative instructions.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35 as amended.

Colette Pollard,
Department Reports Management Officer, Office of Policy Development and Research, Chief Data Officer.

[FR Doc. 2023-17819 Filed 8-17-23; 8:45 am]

BILLING CODE 4210-67-P